ENVIRONMENTAL PROTECTION AGENCY

[FRL-7142-1]

Paying for Water Quality: Managing Funding Programs To Achieve the Greatest Environmental Benefits; a Public Workshop

AGENCY: Environmental Protection Agency.

ACTION: Notice of public meeting.

SUMMARY: The Environmental Protection Agency will hold a public workshop on March 14-15, 2002, to provide a forum to discuss how water quality funding programs can be managed and enhanced to achieve the greatest environmental benefit.

DATES: The workshop will be held on March 14-15, 2002.

ADDRESSES: The workshop will be held at the Environmental Protection Agency, EPA East Building, 1201 Constitution Avenue, NW., Washington, DC 20004, in the EPA Hearing Room, Room 1153.

FOR FURTHER INFORMATION CONTACT: Jordan Dorfman, Environmental Protection Agency, Office of Wastewater Management, State Revolving Fund Branch; telephone: 202-564-0614; e-mail: dorfman.jordan@epa.gov

Registration: Though the workshop is free, registration is requested for planning purposes. Please send your name, title, affiliation, address, phone number, fax, and email to Nikki Cleaveland at Northbridge Environmental, by fax, 202-625-0461, or by email, ncleaveland@nbenvironmental.com.

SUPPLEMENTARY INFORMATION: EPA will convene this public workshop, Paying for Water Quality: Managing Funding Programs to Achieve the Greatest Environmental Benefits, to discuss the current status of water quality funding in the United States, provide an overview of funding programs and illustrate their use through case studies by practitioners from around the country. The Committee on Appropriations, in House Report 107-159, identified a range of issues affecting water quality. The Committee particularly focused on issues concerning nonpoint source pollution. It noted that “septic system repair and management projects and other nonpoint source pollution prevention and control measures, which can produce substantial benefits of water quality protection, are not eligible for SRF funding in most of the states.” It also noted that many recipients of federal funding have not instituted user fees to provide for long-term maintenance of infrastructure.

To address these problems, EPA will hold a workshop to provide a forum to discuss how water quality funding programs can be managed and enhanced to achieve the greatest environmental benefit. The agenda will include topics such as an overview of the Clean Water State Revolving Fund program, the role of other federal water quality funding programs, funding decentralized wastewater systems and nonpoint source projects, exploring the use of environmental outcomes and affordability studies, environmental performance tracking, and efficient wastewater management. Invited to the workshop will be representatives from the State/EPA SRF Workgroup, the Environmental Council of the States, Environmental Finance Centers, centralized and decentralized wastewater and nonpoint source stakeholder groups and any member of the public who wishes to attend. Participants will have the opportunity to openly discuss present concerns and possible solutions.

Dated: February 6, 2002.
Richard T. Kuhlman,
Director, Municipal Support Division, Office of Wastewater Management.

[FR Doc. 02-3364 Filed 2-11-02; 8:45 am]

BILLING CODE 6560-50-P